ENVIRONMENTAL PROTECTION AGENCY

40 CFR Part 52

[EPA-R06-OAR-2010-0335; FRL-9905-04-Region 6]

Approval and Promulgation of Implementation Plans; Texas; Procedures for Stringency Determinations and Minor Permit Revisions for Federal Operating Permits

AGENCY: Environmental Protection Agency (EPA).

ACTION: Withdrawal of proposed rule.

SUMMARY: On September 10, 2013, the Environmental Protection Agency (EPA) published a direct final rule approving portions of three revisions to the Texas State Implementation Plan (SIP) concerning the Texas Federal Operating Permits Program. EPA received timely, adverse comments on the direct final rule and withdrew the direct final rule on November 6, 2013. In our withdrawal of the direct final rule, we indicated we would address the comments received through the proposed rule published on September 10, 2013. Subsequent to our withdrawal of the direct final, EPA received a letter dated December 19, 2013, from the Texas Commission on Environmental Quality stating that the December 17, 1999; October 4, 2001; and August 11, 2003 revisions specific to stringency determinations and minor permit revisions for Federal Operating Permits have been withdrawn from our consideration as revisions to the Texas SIP. Accordingly, EPA is withdrawing the proposed approval and finds that no further action is necessary on the portions of the three SIP revisions specific to stringency determinations and minor permit revisions for the Texas Federal Operating Permits Program. The State's action also withdraws from EPA's review the Federal Operating Permits Program component of the January 22, 2010 Consent Decree between EPA and the BCCA Appeal Group, Texas Association of Business, and Texas Oil and Gas Association. This withdrawal is being taken under section 110 and parts C and D of the Federal Clean Air Act.

DATES: The proposed rule published on September 10, 2013 (78 FR 55234), is withdrawn as of January 8, 2014.

FOR FURTHER INFORMATION CONTACT: Ms. Adina Wiley (6PD-R), Air Permits Section, Environmental Protection Agency, Region 6, 1445 Ross Avenue (6PD-R), Suite 1200, Dallas, TX 75202-2733. The telephone number is (214) 665-2115. Ms. Wiley can also be reached via electronic mail at wiley.adina@epa.gov.

List of Subjects in 40 CFR Part 52

Environmental protection, Air pollution control, Incorporation by reference, Intergovernmental relations, Reporting and recordkeeping requirements.

Dated: December 20, 2013.
Samuel Coleman,
Acting Regional Administrator, Region 6.

[FR Doc. 2013-31569 Filed 1-7-14; 8:45 am]

BILLING CODE 6560-50-P